DEPARTMENT OF ENERGY

Federal Energy Regulatory Commission

[Docket No. CP04-7-000]

New England Gas Company, a Division of Southern Union Company; Notice Of Application

October 9, 2003.

Take notice that on October 3, 2003, New England Gas Company (NEGASCO), 100 Weybosset Street, Providence, Rhode Island 02903, a division of Southern Union Company, filed in Docket No. CP04-7-000, an application pursuant to Section 7(f) of the Natural Gas Act (NGA) for a service area determination, a declaration that NEGASCO qualifies as a local distribution company (LDC) and a waiver of the regulatory requirements under the NGA and the Natural Gas Policy Act (NGPA), all as more fully set forth in the application which is on file with the Commission and open to public inspection. This filing is available for review at the Commission in the Public Reference Room or may be viewed on the Commission's Web site at http://www.ferc.gov using the “eLibrary” link. Enter the docket number excluding the last three digits in the docket number field last three digits in the docket number field to access the document. For assistance, please contact FERC Online Support at FERCOnlineSupport@ferc.gov or toll-free at (866) 208-3676, or for TTY, contact (202) 502-8659.

NEGASCO requests a service area determination to include the facilities necessary to connect NEGASCO's facilities in Rhode Island to those of Yankee Gas Services Company (Yankee Gas) in Connecticut in order to obtain additional pipeline supply to alleviate capacity shortfalls on the Algonquin pipeline. NEGASCO states that the enlarged service area would enable it to enlarge, extend and interconnect its distribution facilities with those of Yankee Gas without losing its status as a local distribution customer. NEGASCO proposes to construct approximately 75 feet of 8” diameter distribution main from Westerly, RI, into the state of Connecticut in order to accomplish the interconnection with Yankee Gas.¹ NEGASCO states that it meets the four criteria for a service area determination, that it is a local distribution company (LDC) serving customers within a single state, that it makes only incidental sales for resale, that its operations are regulated by the appropriate state authority, that it does not have an extensive transmission system and that its operations do not have a significant impact on neighboring distribution companies.

¹ Yankee Gas has concurrently filed in CP04-2-00, an application requesting a Blanket Certificate under Section 284.224 of the Commission's Regulations authorizing the transportation of natural gas in interstate commerce.

Any questions regarding the application should be directed to James Moriarty or Regina Pace, Fleischman and Walsh, L.L.P., 1919 Pennsylvania Ave, NW., Washington, DC 20006, (202) 939-7900.

NEGASCO explains that the proposed service area determination would not change NEGASCO's services or operations. NEGASCO also requests a declaration that it qualifies as an LDC for the purposes of Section 311 of the NGPA and a waiver of all reporting and accounting requirements applicable to natural gas companies under the NGA and the NGPA.

There are two ways to become involved in the Commission's review of this project. First, any person wishing to obtain legal status by becoming a party to the proceedings for this project should, on or before the comment date stated below file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's web site under the “e-Filing” link. The Commission strongly encourages electronic filings.

Comment Date: October 30, 2003.

Magalie R. Salas,
Secretary.

[FR Doc. E3-00258 Filed 11-14-03; 8:45 am

BILLING CODE 6717-01-P